DEPARTMENT OF THE INTERIOR

National Park Service

National Register of Historic Places; Notification of Pending Nominations and Related Actions

Nominations for the following properties being considered for listing or related actions in the National Register were received by the National Park Service before May 31, 2008. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by July 1, 2008.

J. Paul Loether,
Chief, National Register of Historic Places/National Historic Landmarks Program.

CALIFORNIA

Los Angeles County

Apartments at 1342-1346 N. Hayworth Avenue, 1342-1346 N. Hayworth Ave., West Hollywood, 08000628

FLORIDA

Miami-Dade County

Seminole Cafe and Hotel, 55 S. Flagler Ave., Homestead, 08000641

Volusia County

Airport Clear Zone Archeological Site, (Archeological Resources of the 18th-Century Smyrnea Settlement of Dr. Andrew Turnbull MPS), Address Restricted, New Smyrna Beach, 08000639

Blanchette Archeological Site, (Archeological Resources of the 18th-Century Smyrnea Settlement of Dr. Andrew Turnbull MPS), Address Restricted, New Smyrna, 08000640

First Presbyterian Church Archeological Site, (Archeological Resources of the 18th-Century Smyrnea Settlement of Dr. Andrew Turnbull MPS), Address Restricted, New Smyrna Beach, 08000635

Grange Archeological Site, (Archeological Resources of the 18th-Century Smyrnea Settlement of Dr. Andrew Turnbull MPS), Address Restricted, New Smyrna Beach, 08000631

Hawks Archeological Site, (Archeological Resources of the 18th-Century Smyrnea Settlement of Dr. Andrew Turnbull MPS), Address Restricted, Edgewater, 08000636

Janet's Archeological Site, (Archeological Resources of the 18th-Century Smyrnea Settlement of Dr. Andrew Turnbull MPS), Address Restricted, New Smyrna Beach, 08000630

Old Fort Park Archeological Site, (Archeological Resources of the 18th-Century Smyrnea Settlement of Dr. Andrew Turnbull MPS), Address Restricted, New Smyrna Beach, 08000629

Old Stone Wharf Archeological Site, (Archeological Resources of the 18th-Century Smyrnea Settlement of Dr. Andrew Turnbull MPS), Address Restricted, New Smyrna Beach, 08000638

Sleepy Hollow Archeological Site, (Archeological Resources of the 18th-Century Smyrnea Settlement of Dr. Andrew Turnbull MPS), Address Restricted, New Smyrna Beach, 08000637

Turnbull Colonists' House Archeological Site, (Archeological Resources of the 18th-Century Smyrnea Settlement of Dr. Andrew Turnbull MPS), Address Restricted, New Smyrna Beach, 08000632

Turnbull Colonists' House No. 2 Archeological Site, (Archeological Resources of the 18th-Century Smyrnea Settlement of Dr. Andrew Turnbull MPS), Address Restricted, New Smyrna Beach, 08000633

White-Fox House Archeological Site, (Archeological Resources of the 18th-Century Smyrnea Settlement of Dr. Andrew Turnbull MPS), Address Restricted, New Smyrna Beach, 08000634

KANSAS

Cheyenne County

St. Francis City Park, (New Deal-Era Resources of Kansas MPS), 300 Block of E. Washington St., St. Francis, 08000645

Dickinson County

Elms Hotel, 201 W. 1st St., Abilene, 08000644

Graham County

Antelope Lake Park, (New Deal-Era Resources of Kansas MPS), 2.5 miles W and .5 miles N. of Jct. U.S. 24 and KS 85, Morland, 08000643

Miami County

Jackson Hotel, 139 W. Peoria St., Paola, 08000646

KENTUCKY

Campbell County

Fort Thomas Commercial District, 1011-1123 S. Fort Thomas Ave., 9-11 River Rd., 12-28 Midway Ct., Ft. Thomas, 08000653

Clark County

Woodford—Fishback—Venable Farm, 5696 Combs Ferry Rd., Winchester, 08000655

Fayette County

Hollywood Terrace Historic District, (Historic Residential Suburbs in the United States, 1830-1960 MPS), Tates Creek Rd. and the rear property lines of the properties facing, Euclid, Tremont and Park Ave., Lexington, 08000652

Garrard County

Dr. Edwards House, 572 Danville St., Lancaster, 08000650

Jefferson County

Hadley, Mary Alica, House, 1638 Story Ave., Louisville, 08000649

Progress School, 200 Wood Rd., Louisville, 08000648

Logan County

Rhea Stadium, NE. corner of Intersection of E. 9th and Summer St., Russellville, 08000647

Oldham County

Ross-Hollenbach Farm, 4701 S. Hwy. 1694, Brownsboro, 08000651

TEXAS

Dallas County

Bromberg, Alfred and Juanita, House, 3201 Wendover Rd., Dallas, 08000658

Fayette County

Fayetteville Historic District, Roughly bounded by E. Bell, N. Thompson, E. Fayette, E. Main, Post Oak Lane, Fayetteville, 08000657

WISCONSIN

Milwaukee County

Florida and Third Industrial Historic District, 234-500 (even side) W. Florida St., 222 W. Pittsburgh Ave., 212, 222, 305, 331 S. 3rd St., 400 S. 5th St., Milwaukee, 08000656

Request for MOVE has been made for the following resources:

KANSAS

Norton County

North Fork Solomon River Lattice Truss Bridge, Prairie Dog Golf Course, Norton, 03000366

KANSAS

Washington County

Washington County Kingpost Bridge, SW corner of int. K-9 and Center St., Barnes, 89002184

[FR Doc. E8-13434 Filed 6-13-08; 8:45 am]

BILLING CODE 4310-70-P